DEPARTMENT OF HEALTH AND HUMAN SERVICES

Centers for Medicare & Medicaid Services

[CMS-4090-N]

Medicare Program; Town Hall Meeting on Proposed Collection—Comment Request for Skilled Nursing Facility Advance Beneficiary Notice (SNFABN)

AGENCY: Centers for Medicare & Medicaid Services (CMS), HHS.

ACTION: Notice of meeting.

SUMMARY: This notice announces a Town Hall meeting to solicit input from the public on the proposed use of a Skilled Nursing Facility Advance Beneficiary Notice (SNFABN). Interested persons are invited to comment on the SNFABN Notice (CMS-10055 form) collection instrument, the associated burden or any other aspect of this collection of information, including any of the following subjects: (1) The necessity and utility of the proposed information collection for the proper performance of the agency's functions; (2) the associated time burden; (3) ways to enhance the quality, utility, and clarity of the information to be collected; and (4) the use of automated collection techniques or other forms of information technology to minimize the information collection burden. The meeting is open to the public, but attendance is limited to space available.

DATES: The Town Hall meeting will be held on Wednesday, March 16, 2004, from 1 p.m. to 4 p.m., e.s.t.

ADDRESSES: The Town Hall meeting will be held in the Multi-Purpose Room at the Centers for Medicare & Medicaid Services (CMS), 7500 Security Boulevard, Baltimore, Maryland 21244.

FOR FURTHER INFORMATION CONTACT: E. Joan Collins by phone at (410) 786-4618, via e-mail at ecollins1@cms.hhs.gov, or by fax at (410) 786-9963.

SUPPLEMENTARY INFORMATION:

I. Background

The Skilled Nursing Facility Advance Beneficiary Notice (SNFABN) replaces the Skilled Nursing Facility (SNF) Notices Of Non-Coverage previously used for notification purposes. SNFs must also meet the advance beneficiary notice (ABN) Standards in § 40.3 of chapter 30, Financial Liability Protections, of the IOM Pub. 100-4 at http://www.cms.hhs.gov/manuals/104_claims/clm104c30.pdf in completing and delivering SNFABNs.

A SNFABN is a CMS-approved written notice that the SNF gives to a Medicare beneficiary, or to their authorized representative, before extended care services or items are furnished, reduced, or terminated when the SNF, the Utilization Review entity, the Quality Improvement Organization, or the Medicare contractor believes that Medicare will not pay for, or will not continue to pay for, extended care services that the SNF furnishes and that a physician ordered on the basis of one of the following statutory exclusions:

• Not reasonable and necessary (“medical necessity”) for the diagnosis or treatment of illness, injury, or to improve the functioning of a malformed body member—section 1862(a)(1) of the Social Security Act (the Act); or

• Custodial care (“not a covered level of care”)—section 1862(a)(9) of the Act.

These exclusions provide the only statutory authority for application of the limitation on liability (LOL) provision at section 1879 of the Act to denied SNF claims.

The SNFABN (CMS-10055 form) is for use with SNF Prospective Payment System services. This form satisfies the requirements under LOL for advance beneficiary notice and the beneficiary's agreement to pay. The use of any other notices or of modified SNFABNs may be ineffective in protecting users from liability. The SNFABN must be prepared with an original and at least one patient copy, a SNF copy containing the signature of the patient or authorized representative, an attending physician copy, and (when necessary) a Medicare contractor copy. SNFs may produce SNFABNs using self-carboning paper and other methods of producing copies, including photocopying, printing, and electronic generation, but they must conform to the Form CMS-10055 design.

This Town Hall meeting is intended to provide a forum for all interested individuals to comment on and discuss the SNFABN. The SNFABN form and instructions may be reviewed prior to the public meeting by accessing http://www.cms.hhs.gov/medicare/bni on the Internet. This information is available for immediate review.

II. Meeting Format

Registered persons from the public may discuss and make individual recommendations concerning the Skilled Nursing Facility Advance Beneficiary Notice. Individuals who wish to make formal presentations must include that information when registering. Presentations must be brief, and three written copies must be submitted to accompany the oral presentation. Presenters may also make copies available for approximately 70 meeting participants.

III. Registration Instructions

Representatives of providers and suppliers furnishing skilled nursing facility services, health care consumer advocacy groups, and other members of the public who wish to participate in the public meeting are asked to notify us, in advance, of their interest in attending. Interested persons may register by providing notification to E. Joan Collins either by telephone at (410) 786-4618, fax at (410) 786-9963, or by e-mail at ecollins1@cms.hhs.gov. Please submit the following information when registering: name, company name, address, telephone number, and e-mail address and an indication of whether you wish to make a formal presentation.

Because this meeting will be located on Federal property, for security reasons, any persons wishing to attend this meeting must register by close of business on March 10, 2004. In order to gain access to the building and grounds, participants must show to the Federal Protective Service or guard service personnel government-issued photo identification and a copy of their registration confirmation. Individuals who have not registered in advance will not be allowed to enter the building to attend the meeting. Seating capacity is limited to the first 250 registrants.

The on-site check-in for visitors will be held from 12 noon until 1 p.m., followed by opening remarks. Please allow sufficient time to arrive to go through the security checkpoints. It is suggested that you arrive at 7500 Security Boulevard no later than 12 noon so that you will be able to arrive promptly at the meeting by 1 p.m. All items brought to us, whether personal or for the purpose of demonstration or to support a presentation, are subject to inspection.

Individuals requiring sign language interpretation or other special accommodations must provide that information upon registering for the meeting.

(Catalog of Federal Domestic Assistance Program No. 93.774, Medicare—Supplementary Medical Insurance Program.)
Dated: February 12, 2004.
Dennis G. Smith,
Acting Administrator, Centers for Medicare and Medicaid Services.

[FR Doc. 04-4275 Filed 2-26-04; 8:45 am]

BILLING CODE 4120-01-P